COMMISSION ON CIVIL RIGHTS

Sunshine Act Notice

AGENCY: United States Commission on Civil Rights.

ACTION: Notice of meeting.

DATE AND TIME: Friday, June 12, 2009; 9:30 a.m. EDT.

PLACE: 624 9th St., NW., Room 540, Washington, DC 20425.

Briefing Agenda

Topic: Health Disparities.

I. Introductory Remarks by Chairman.

II. Speakers' Presentations.

III. Questions by Commissioners and Staff Director.

IV. Adjourn Briefing.

Meeting Agenda

This meeting is open to the public.

I. Approval of Agenda.

II. Approval of Minutes of May 15, 2009 Meeting.

III. Announcements.

IV. Staff Director's Report.

V. Program Planning.

• Discussion of 2009 Statutory Report.

VI. Management & Operations.

• Motion Regarding Evaluation of Staff Director Performance (Melendez).

• Motion Regarding Staff Director's Provision of Quarterly Financial Reports to Commission (Melendez).

• Motion Regarding Commission Preparation of a Public Service Announcement (Melendez).

• Motion Regarding Review and Standardization of Agency Regulations, Administrative Instructions and Other Practices (Melendez).

VII. State Advisory Committee Issues.

• California SAC.

• New Hampshire SAC.

VIII. Future Agenda Items.

IX. Adjourn.

CONTACT PERSON FOR FURTHER INFORMATION: Lenore Ostrowsky, Acting Chief, Public Affairs Unit (202) 376-8591. TDD: (202) 376-8116.

Persons with a disability requiring special services, such as an interpreter for the hearing impaired, should contact Pamela Dunston at least seven days prior to the meeting at 202-376-8105. TDD: (202) 376-8116.

Dated: June 2, 2009.
David Blackwood,
General Counsel.

[FR Doc. E9-13177 Filed 6-2-09; 4:15 pm]

BILLING CODE 6335-01-P